POSTAL SERVICE

39 CFR Part 111

New Preparation Requirements for Bundles of Mail on Pallets

AGENCY: Postal Service.

ACTION: Proposed rule.

SUMMARY: The Postal Service ™ is seeking comments on a proposal that would affect mailers who prepare bundles of Periodicals, Standard Mail, and Package Services flat-size mail or irregular parcels on pallets. The proposal would not affect mailers who prepare sacks, unbundled parcels, or trays on pallets.

Currently, mailers who prepare bundles of flat-size mail or bundles of irregular parcels on pallets must prepare a pallet if the mailing contains 500 or more pounds of bundles for a required sortation level. (“Sortation level” refers to the distribution or separation of mail by ZIP Codes, range of ZIP Codes, or carrier route.) After all required pallets are prepared, mailers must place any remaining bundles in sacks.

Under this proposal, before placing any bundles in sacks, if there are 250 or more pounds of bundles addressed within the ZIP Code range for an area distribution center (ADC) or a bulk mail center/auxiliary service facility (BMC/ASF), mailers must prepare the ADC pallet (for Periodicals) or the BMC/ASF pallet (for Standard Mail and Package Services). If a mailing does not contain any ADC or BMC/ASF pallets—for example, the mailer has set the presort software to stop at the sectional center facility (SCF) level—but there are 250 or more pounds for an SCF, the mailer must prepare the SCF pallet.

DATES: We must receive comments on or before October 31, 2005.

ADDRESSES: Mail or deliver comments to the Manager, Mailing Standards, U.S. Postal Service, 475 L'Enfant Plaza, SW., Rm. 3436, Washington, DC 20260-3436. You may inspect and photocopy all written comments between 9 a.m. and 4 p.m., Monday through Friday, at USPS Headquarters Library, 11th Floor North, 475 L'Enfant Plaza, SW., Washington, DC 20260.

FOR FURTHER INFORMATION CONTACT: Julia Carroll at 202-268-2108 or Julia.Carroll@usps.gov.

SUPPLEMENTARY INFORMATION: The Postal Service ™ is finding ways to process mail more efficiently, thereby improving service to our customers and reducing costs.

Bundles of flat-size mailpieces or bundles of irregular parcels prepared on pallets are easier and generally less costly for us to handle than bundles in sacks. When customers present mail in sacks, the sacks must be opened and the contents unloaded before processing on our automated sorting equipment. In addition, we have found that bundles on pallets maintain their integrity to a greater degree than bundles in sacks. This proposal would help increase the volume of mail on pallets by revising the standards for required pallet preparation.

Mailing Standards of the United States Postal Service, Domestic Mail Manual (DMM®) 705.8.5.2 provides required pallet preparation for Periodicals, Standard Mail, and Package Services mail (except specified discount rate Parcel Post). DMM 705.8.5.2a requires mailers who prepare bundles of flat-size mail or bundles of irregular parcels on pallets to prepare a pallet to a required sortation level if a mailing contains 500 or more pounds of bundles. Additional standards in DMM 705.8.9.1 require these mailers to place in sacks any bundles that cannot go on one of the required pallets.

Under this proposal, after preparing all other required pallets at the 500-pound required minimum, mailers who prepare bundles of flat-size mailpieces or bundles of irregular parcels on pallets must prepare additional pallets, under the following conditions:

• If 250 or more pounds of bundles remain for an ADC (for Periodicals) or for a BMC/ASF (for Standard Mail and Package Services), mailers must prepare the ADC or BMC/ASF pallet(s), as applicable for the class of mail.

• If there are no ADC or BMC/ASF pallets in a mailing—for example, if a mailer's presort software is set to stop at the SCF level—and 250 or more pounds remain for an SCF, mailers must prepare the SCF pallet.

We are proposing an effective date of March 1, 2006, for mailers to begin mailing under the revised standards.

In addition to the above changes, we also are removing text in 705.8.5.2 about labeling pallets and optional bundle reallocation, because we cover these topics in detail elsewhere in the DMM.

Although we are exempt from the notice and comment requirements of the Administrative Procedure Act [5 U.S. C. 553 (b),(c)] regarding proposed rulemaking by 39 U.S.C. 410(a), we invite public comments on the following proposed revisions to Mailing Standards of the United States Postal Service, Domestic Mail Manual (DMM), incorporated by reference in the Code of Federal Regulations. See 39 CFR 111.1.

List of Subjects in 39 CFR Part 111

Administrative practice and procedure, Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Revise Mailing Standards of the United States Postal Service, Domestic Mail Manual (DMM), as follows:

700 Special Standards

* * * * *

705 Advanced Preparation and Special Postage Payment Systems

* * * * *

8.0 PREPARATION FOR PALLETS

* * * * *

8.5 General Preparation

* * * * *

8.5.2 Required Preparation

[Revise 8.5.2 to require ADC, BMC/ASF, or SCF pallets at 250 pounds of bundles, as follows:]

The following standards apply to Periodicals, Standard Mail, and Package Services mail, except Parcel Post mailed at BMC Presort (8.17), OBMC Presort (8.18), DSCF (8.19, 8.20), and DDU rates (8.21).

a. Mailers must prepare a pallet to the required sortation level(s) for the class of mail when a mailing contains 500 or more pounds of bundles, sacks, or parcels or 72 linear feet or six layers of letter trays for the destination.

b. For bundles of flat-size mailpieces or bundles of irregular parcels on pallets, after all possible pallets are prepared under 8.5.2a, when 250 or more pounds of bundles remain for an ADC (Periodicals) or for a BMC/ASF (Standard Mail and Package Services), the ADC or BMC/ASF pallet must be prepared as applicable for the class of mail. Exception: If there are no ADC or BMC/ASF pallets in a mailing (e.g., if the presort software is set to stop at the SCF level) and 250 or more pounds remain for an SCF, prepare the SCF pallet.

c. If bundles remain that cannot be prepared on an ADC, BMC/ASF, or SCF pallet, place those bundles in sacks (8.9.1).

* * * * *

If we implement this proposal, we will publish an appropriate amendment to 39 CFR to reflect these changes.

Neva R. Watson,
Attorney, Legislative.

[FR Doc. 05-19531 Filed 9-29-05; 8:45 am]

BILLING CODE 7710-12-P